DEPARTMENT OF THE INTERIOR

Fish and Wildlife Service

Proposed Low Effect Habitat Conservation Plan for the County of San Bernardino, CA

AGENCY: Fish and Wildlife Service, Interior.

ACTION: Notice of availability.

SUMMARY: The County of San Bernardino (Applicant) has applied to the U.S. Fish and Wildlife Service (Service) for a 10-year incidental take permit for one covered species pursuant to section 10(a)(1)(B) of the Endangered Species Act of 1973, as amended (Act). The application addresses the potential for “take” of the endangered Delhi Sands flower-loving fly (Rhaphiomidas terminatus abdominalis) associated with the proposed realignment of the intersection of Valley and Pepper Avenues in the City of Colton, San Bernardino County, California. A conservation program to mitigate for the project activities would be implemented as described in the proposed Valley/Pepper Realignment Low Effect Habitat Conservation Plan (proposed Plan), which would be implemented by the Applicant.

We are requesting comments on the permit application and on the preliminary determination that the proposed Plan qualifies as a “Low-effect” Habitat Conservation Plan, eligible for a categorical exclusion under the National Environmental Policy Act (NEPA) of 1969, as amended. The basis for this determination is discussed in the Environmental Action Statement (EAS) and the associated Low Effect Screening Form, which are also available for public review.

DATES: Written comments should be received on or before May 22, 2006.

ADDRESSES: Comments should be addressed to the Field Supervisor, Fish and Wildlife Service, Carlsbad Fish and Wildlife Office, 6010 Hidden Valley Road, Carlsbad, California 92011. Written comments may be sent by facsimile to (760) 918-0638.

FOR FURTHER INFORMATION CONTACT: Ms. Karen Goebel, Assistant Field Supervisor, Carlsbad Fish and Wildlife Office (see ADDRESSES); telephone: (760) 431-9440.

SUPPLEMENTARY INFORMATION:

Availability of Documents

Individuals wishing copies of the application, proposed Plan, and EAS should immediately contact the Service by telephone at (760) 431-9440 or by letter to the Carlsbad Fish and Wildlife Office. Copies of the proposed Plan and EAS also are available for public inspection during regular business hours at the Carlsbad Fish and Wildlife Office (see ADDRESSES).

Background

Section 9 of the Act and its implementing Federal regulations prohibit the take of animal species listed as endangered or threatened. Take is defined under the Act as harass, harm, pursue, hunt, shoot, wound, kill, trap, capture or collect listed animal species, or attempt to engage in such conduct (16 U.S.C. 1538). However, under section 10(a) of the Act, the Service may issue permits to authorize incidental take of listed species. “Incidental take” is defined by the Act as take that is incidental to, and not the purpose of, carrying out an otherwise lawful activity. Regulations governing incidental take permits for threatened and endangered species, respectively, are found in the Code of Federal Regulations at 50 CFR 17.22 and 50 CFR 17.32

The Applicant is seeking a permit for take of the Delhi Sands flower-loving fly during the life of the permit. This species is referred to as the “DSF” in the proposed Plan.

The Applicant proposes to relocate the current Valley Boulevard/Pepper Avenue intersection approximately 76 meters (250 feet) north. Pepper Avenue would be widened to six lanes in the segment between San Bernardino Avenue and Interstate 10. The improvement limits on Valley Boulevard are 246 meters (811 feet) west and 284 meters (938 feet) east of Pepper Avenue. Valley Boulevard would retain two through lanes in each direction with turn lanes at the intersection with Pepper Avenue. A signalized street connection approximately 152 meters (500 feet) west of Pepper Avenue would be developed to include a frontage road and cul-de-sac. An access road would be constructed to permit southbound Pepper Avenue traffic direct access to local business. We anticipate that all DSF would be lost within approximately 1.84 acres of DSF occupied habitat within the project footprint. The project site does not contain any other rare, threatened or endangered species or habitat. No critical habitat for any listed species occurs on the project site.

The Applicant proposes to mitigate the effects to the DSF associated with the covered activities by fully implementing the Plan. The purpose of the proposed Plan's conservation program is to promote the biological conservation of the DSF. The County proposes to mitigate impacts to the DSF either through acquisition and conservation of a 2.04-acre parcel adjacent to the proposed project or purchase of 5 acres of credit within the Vulcan Materials Inc. Colton Dunes Conservation Bank.

The Proposed Action consists of the issuance of an incidental take permit and implementation of the proposed Plan, which includes measures to mitigate impacts of the project on the DSF. Two alternatives to the taking of the listed species under the Proposed Action are considered in the proposed Plan. Under the No Action Alternative, no permit would be issued, and no construction would occur. Under the Modified Project Alternative, incidental take of DSF would be authorized, but the impacts would be reduced.

The Service has made a preliminary determination that approval of the proposed Plan qualifies as a categorical exclusion under NEPA, as provided by the Department of the Interior Manual (516 DM 2, Appendix 1 and 516 DM 6, Appendix 1) and as a “low-effect” plan as defined by the Habitat Conservation Planning Handbook (November 1996). Determination of Low-effect Habitat Conservation Plans is based on the following three criteria: (1) Implementation of the proposed Plan would result in minor or negligible effects on federally listed, proposed, and candidate species and their habitats; (2) implementation of the proposed Plan would result in minor or negligible effects on other environmental values or resources; and (3) impacts of the proposed Plan, considered together with the impacts of other past, present and reasonably foreseeable similarly situated projects would not result, over time, in cumulative effects to environmental values or resources which would be considered significant.

Based upon this preliminary determination, we do not intend to prepare further NEPA documentation. We will consider public comments in making the final determination on whether to prepare such additional documentation.

This notice is provided pursuant to section 10(c) of the Act. We will evaluate the permit application, the proposed Plan, and comments submitted thereon to determine whether the application meets the requirements of section 10(a) of the Act. If the requirements are met, we will issue a permit to the County of San Bernardino for the incidental take of the Delhi Sands flower-loving fly from realignment of the intersection of Valley and Pepper avenues in the City of Colton, San Bernardino County, California.

Dated: April 17, 2006.
Jim A. Bartel,
Field Supervisor, Carlsbad Fish and Wildlife Office, California/Nevada Operations Carlsbad, California.

[FR Doc. E6-5988 Filed 4-20-06; 8:45 am]

BILLING CODE 4310-55-P